DEPARTMENT OF ENERGY

Federal Energy Regulatory Commission

[Project No. 12611-003]

Verdant Power, LLC; Notice of Intent To File License Application, Filing of Draft Application, Request for Waivers of Integrated Licensing Process Regulations Necessary for Expedited Processing of a Hydrokinetic Pilot Project License Application, Extending the Comment Period, and Soliciting Comments

December 1, 2008.

a. Type of Filing: Notice of Intent to File a License Application for an Original License for a Hydrokinetic Pilot Project.

b. Project No.: 12611-003.

c. Date Filed: November 25, 2008.

d. Submitted By: Verdant Power, LLC.

e. Name of Project: Roosevelt Island Tidal Energy Project.

f. Location: In the east channel of the East River, in New York City, New York. The project would not occupy federal lands.

g. Filed Pursuant to: 18 CFR 5.3 of the Commission's regulations.

h. Applicant Contact: Ronald F. Smith, Verdant Power, LLC, The Octagon, 888 Main Street, New York, NY 10044 (212) 888-8887 ext 601.

i. FERC Contact: Tom Dean (202) 502-6041.

j. Verdant Power, LLC (Verdant Power) has filed with the Commission: (1) A notice of intent (NOI) to file an application for an original license for a kinetic hydropower pilot project and a draft license application with monitoring plans; (2) a request for waivers of the integrated licensing process regulations necessary for expedited processing of a hydrokinetic pilot project license application, including extending the period to file comments on the draft license application and monitoring plans; (3) a proposed process plan and schedule; (4) a request to be designated as the non-federal representative for section 7 of the Endangered Species Act consultation; and (5) a request to be designated as the non-federal representative for section 106 consultation under the National Historic Preservation Act (collectively the pre-filing materials).

k. With this notice, we are soliciting comments on the pre-filing materials listed in paragraph j above, including the draft license application and monitoring plans. All comments should be sent to the address above in paragraph h. The comment period has been extended 45 days at the request of Verdant Power to take into consideration the holiday season. In addition, all comments (original and eight copies) must be filed with the Commission at the following address: Kimberly D. Bose, Secretary, Federal Energy Regulatory Commission, 888 First Street, NE., Washington, DC 20426. All filings with the Commission must include on the first page, the project name (Roosevelt Island Tidal Energy Project) and number (P-12611-003), and bear the heading “Comments on the proposed Roosevelt Island Tidal Energy Project.” Any individual or entity interested in submitting comments on the pre-filing materials must do so by January 9, 2009.

Comments may be filed electronically via the Internet in lieu of paper. The Commission strongly encourages electronic filings. See 18 CFR 385.2001(a)(1)(iii) and the instructions on the Commission's Web site (http://www.ferc.gov) under the “e-filing” link.

l. With this notice, we are approving Verdant Power's request to be designated as the non-federal representative for section 7 of the Endangered Species Act (ESA) and its request to initiate consultation under section 106 of the National Historic Preservation Act; and recommending that it begin informal consultation with: (a) the U.S. Fish and Wildlife Service and the National Marine Fisheries Service as required by section 7 of ESA; and (b) the New York State Historic Preservation Officer, as required by section 106, National Historical Preservation Act, and the implementing regulations of the Advisory Council on Historic Preservation at 36 CFR 800.2.

m. This notice does not constitute the Commission's approval of Verdant Power's request to use the Pilot Project Licensing Procedures. Upon its review of the project's overall characteristics relative to the pilot project criteria, the draft license application contents, and any comments filed, the Commission will determine whether there is adequate information to conclude the pre-filing process.

n. The proposed Roosevelt Island Tidal Energy Project would consist of: (1) A field array of thirty 35-kilowatt, 5-meter-diameter axial flow Kinetic Hydropower System (KHPS) turbine-generator units mounted on ten triframe mounts, with a total capacity of about 1 megawatt; (2) underwater cables from each turbine to five shoreline switchgear vaults, that would interconnect to a control room and interconnection points; and (3) appurtenant facilities for navigation safety and operation. The estimated annual generation of the proposed project would be between 1,680 and 2,400 megawatt-hours.

o. A copy of the draft license application and all pre-filing materials are available for review at the Commission in the Public Reference Room or may be viewed on the Commission's Web site (http://www.ferc.gov), using the “eLibrary” link. Enter the docket number, excluding the last three digits in the docket number field to access the document. For assis tance, contact FERC Online Support at FERCONlineSupport@ferc.gov or toll free at 1-866-208-3676, or for TTY, (202) 502-8659. A copy is also available for inspection and reproduction at the address in paragraph h.

p. Pre-filing process schedule. The pre-filing process will be conducted pursuant to the following tentative schedule. Revisions to the schedule may be made as appropriate.

Milestone | Date
Comments on pre-filing materials due | January 9, 2009.
Issuance of meeting notice (if needed) | January 26, 2009.
Public meeting/technical conference (if needed) | February 25, 2009.
Issuance of notice concluding pre-filing process and ILP waiver request determination | February 9, 2009 (if no meeting is needed).
| March 12, 2009 (if meeting is needed).

q. Register online at http://ferc.gov/esubscribenow.htm to be notified via e-mail of new filing and issuances related to this or other pending projects. For assistance, contact FERC Online Support.

Kimberly D. Bose,
Secretary.

[FR Doc. E8-28929 Filed 12-5-08; 8:45 am]

BILLING CODE 6717-01-P